INTERNATIONAL TRADE COMMISSION

[Investigation No. 337-TA-1100]

Certain Reload Cartridges for Laparoscopic Surgical Staplers; Notice of a Commission Determination Not To Review an Initial Determination Granting Complainants' Unopposed Motion To Amend the Complaint, Case Caption, and Notice of Investigation

AGENCY: U.S. International Trade Commission.

ACTION: Notice.

SUMMARY: Notice is hereby given that the U.S. International Trade Commission has determined not to review an initial determination (“ID”) (Order No. 14) of the presiding administrative law judge (“ALJ”) granting an unopposed motion to amend the complaint, case caption, and notice of investigation in the above-captioned investigation.

FOR FURTHER INFORMATION CONTACT: Benjamin S. Richards, Esq., Office of the General Counsel, U.S. International Trade Commission, 500 E Street SW, Washington, DC 20436, telephone (202) 708-5453. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: On July 5, 2019, by publication in the Federal Register, the Commission instituted this investigation based on a complaint filed by Ethicon LLC of Guaynabo, PR; Ethicon Endo-Surgery, Inc. of Cincinnati, Ohio; and Ethicon US, LLC of Cincinnati, Ohio (collectively “Ethicon”). 84 FR 32220 (July 5, 2019). The complaint alleges violations of section 337 of the Tariff Act of 1930, as amended, 19 U.S.C. 1337, based on the importation into the United States, the sale for importation, and the sale within the United States after importation of certain reload cartridges for laparoscopic surgical staplers by reason of infringement of one or more claims of U.S. Patent Nos. 9,844,379; 9,844,369; 7,490,749; 8,479,969; and 9,113,874. Id. The Commission's notice of investigation names the following as respondents: Intuitive Surgical Inc., of Sunnyvale, CA; Intuitive Surgical Operations, Inc., of Sunnyvale, CA; Intuitive Surgical Holdings, LLC, of Sunnyvale, CA; and Intuitive Surgical S. De R.L. De C.V. of Mexicali, Mexico. Id. The Office of Unfair Import Investigations is not participating in this investigation. Id.

On September 24, 2019, Ethicon moved for leave to amend the complaint, case caption, and notice of investigation. The complaint originally identified the accused products as “laparoscopic surgical staplers, associated reload cartridges, and components thereof” and was titled “Certain Laparoscopic Surgical Staplers, Reload Cartridges, and Components Thereof,” but was modified by Ethicon prior to institution to remove staplers and stapler components from the description of accused products and the case caption. Ethicon's motion sought to reincorporate staplers and stapler components into the description of the accused products and the case caption.

On October 23, 2019, the ALJ issued Order No. 14, the subject ID, granting Ethicon's motion. The ALJ found that Ethicon's motion was supported by good cause and that the proposed amendments would not unnecessarily prejudice the public interest or the rights of the parties to the investigation.

No petitions for review were filed.

The Commission has determined not to review the subject ID. From this point forward, the caption for this investigation shall be “Certain Laparoscopic Surgical Staplers, Reload Cartridges, and Components Thereof.”

The authority for the Commission's determination is contained in section 337 of the Tariff Act of 1930, as amended (19 U.S.C. 1337), and in part 210 of the Commission's Rules of Practice and Procedure (19 CFR 210).

By order of the Commission.
Issued: November 21, 2019.
William Bishop,
Supervisory Hearings and Information Officer.

[FR Doc. 2019-25682 Filed 11-25-19; 8:45 am]

BILLING CODE 7020-02-P